DEPARTMENT OF ENERGY

Federal Energy Regulatory Commission

[Docket No. RP99-481-002]

Transwestern Pipeline Company; Notice of Compliance Filing

February 18, 2000.

Take notice that on February 14, 2000, Transwestern Pipeline Company (Transwestern), tendered for filing to become part of its FERC Gas Tariff, Second Revised Volume No. 1, the tariff sheets listed on the filing, to be effective February 23, 2000.

Transwestern states that this filing is made to comply with the Commission's January 28, 2000 order accepting, subject to conditions, the tariff sheets filed by Transwestern in this proceeding.

Transwestern states that copies of the filing were served upon Transwestern customers and interested State Commissions.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-4451 Filed 2-24-00; 8:45 am]

BILLING CODE 6717-01-M